ENVIRONMENTAL PROTECTION AGENCY

[FRL-7065-3]

Agency Information Collection Activities: Submission for OMB Review; Comment Request; Identification, Listing and Rulemaking Petitions

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Identification, Listing and Rulemaking Petitions, OMB Control Number 2050-0053, expiration date September 30, 2001. The ICR describes the nature of the information collection and its expected burden and cost; where appropriate, it includes the actual data collection instrument.

DATES: Comments must be submitted on or before October 25, 2001.

ADDRESSES: Send comments, referencing EPA ICR No. 1189.09 and OMB Control No. 2050-0053, to the following addressees: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.Sandy@epamail.epa.gov, or download off the Internet at http://www.epa.gov/icr and refer to EPA ICR No.1189.09. For technical questions about the ICR contact James Michael, Hazardous Waste Identification Division, Office of Solid Waste at (703) 308-8610, by E-mail at Michael.James @epa.gov.

SUPPLEMENTARY INFORMATION: Title: Identification, Listing and Rulemaking Petitions (OMB Control No. 2050-0053; EPA ICR No.1189.09) expiring September 30, 2001. This is a request for extension of a currently approved collection.

Abstract: This ICR provides a discussion of all the information collection requirements associated with developing and reviewing rulemaking petitions, solid waste and boiler variances, hazardous waste exclusions, and hazardous waste listing exemptions under 40 CFR parts 260 and 261. It includes a detailed description of data items and respondent activities associated with each activity. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on April 3, 2001 (66 FR 17702); no comments were submitted.

Burden Statement: The annual public reporting and record keeping burden for this collection of information varies depending on the type of petition or demonstration. For example, it is estimated that the average reporting burden per respondent ranges from less than 1 hour (equipment cleaning and replacement) to 748 hours (preparation of a delisting petition). The average recordkeeping burden per respondent ranges from 63 hours (equipment cleaning and replacement) to 2 hours (delisting petition). Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business or other for Profit Institutions.

Estimated Number of Respondents: 126.

Frequency of Response: On occasion.

Estimated Total Annual Hour Burden: 20,802 hours.

Estimated Total Annualized Capital, O&M Cost Burden: $886,315.

Send comments on the Agency's need for this information, the accuracy of the provided burden estimates, and any suggested methods for minimizing respondent burden, including through the use of automated collection techniques to the addresses listed above. Please refer to EPA ICR No. 1189.09 and OMB Control No. 2050-0053 in any correspondence.

Dated: September 18, 2001.
Oscar Morales,
Director, Collection Strategies Division.

[FR Doc. 01-23922 Filed 9-24-01; 8:45 am]

BILLING CODE 6560-50-P